DEPARTMENT OF JUSTICE

Notice of Lodging of Settlement Agreement Under Comprehensive Environmental Response, Compensation and Liability Act

In accordance with Departmental policy, 28 CFR 50.7, notice is hereby given that a proposed Settlement Agreement in In re Beloit Corporation, C.A. No. 99-2177 (Bnkr. Ct. Del.), was lodged on March 5, 2001, with the United States Bankruptcy Court for the District of Delaware. The Settlement Agreement resolves the United States' claims against the Beloit Corporation (“Beloit”) with respect to past response costs incurred and future costs to be incurred, pursuant to Section 107 of the Comprehensive Environmental Response, Compensation and Liability Act, 42 U.S.C. 9607, in connection with the clean-up of the O'Brien Machinery Site (“Site”), located in Downington, Pennsylvania.

Under the Settlement Agreement, Beloit has agreed to give EPA, a general unsecured creditor, an allowed claim in the amount of $280,000.00 in reimbursement of response costs incurred in connection with the Site. Beloit will pay the allowed claim on the same basis as it pays the allowed claims of all other unsecured creditors.

The Department of Justice will receive, for a period of 30 days from the date of this publication, comment relating to the proposed Settlement Agreement. Comments should be addressed to the Acting Assistant Attorney General for the Environment and Natural Resources Division, Department of Justice, Washington, D.C. 20530, and should refer to In re Beloit Corporation, DOJ Reference No. 90-11-2-207/4.

The proposed Settlement Agreement may be examined at the Office of the United States Attorney, Chemical Bank Plaza, 1201 Market Street, Suite 1100, Wilmington, Delaware 19899; and the Region III Office of the Environmental Protection Agency, 1650 Arch Street, Philadelphia, Pennsylvania 19103. A copy of the proposed Settlement Agreement may be obtained by mail from the Department of Justice Consent Decree Library, P.O. Box 7611, Washington, D.C. 20044. In requesting a copy, please refer to the referenced case and enclose a check in the amount of $2.75 (.25 center per page production costs), payable to the Consent Decree Library.

Robert D. Brook,
Assistant Section Chief, Environmental Enforcement Section, Environment and Natural Resources Division.

[FR Doc. 01-6231 Filed 3-12-01; 8:45 am]

BILLING CODE 4410-15-M